DEPARTMENT OF THE INTERIOR

Bureau of Reclamation

[RR85672000, 21XR0680A2, RX.31480001.0040000; OMB Control Number 1006-0028]

Agency Information Collection Activities; Recreation Survey Questions

AGENCY: Bureau of Reclamation, Interior.

ACTION: Notice of information collection; request for comments.

SUMMARY: In accordance with the Paperwork Reduction Act of 1995, we, the Bureau of Reclamation (Reclamation), are proposing to renew an information collection with revisions.

DATES: Interested persons are invited to submit comments on or before February 23, 2026.

ADDRESSES: Send written comments on this information collection request (ICR) by mail to Ronnie Baca, Bureau of Reclamation, Asset Management Division, 86-67200, P.O. Box 25007, Denver, CO 80225-0007; or by email to rbaca@usbr.gov. Please reference the Office of Management and Budget (OMB) Control Number 1006-0028 in the subject line of your comments.

FOR FURTHER INFORMATION CONTACT: Ronnie Baca by email at rbaca@usbr.gov, or by telephone at (303) 445-3257. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Reclamation is responsible for recreation development at all of its reservoirs. Presently, more than 240 designated recreation areas exist on our lands within the 17 Western States, hosting approximately 40 million visitors annually. As a result, we must be able to respond to emerging trends; changes in the demographic profile of users; changing values, needs, wants, and desires; and conflicts between user groups.

Statistically valid and up-to-date data derived from the user is essential to developing and providing recreation programs relevant to today's visitor. Reclamation is requesting re-approval for the collection of data from recreational users on Reclamation lands and waterbodies.

To meet our needs for the collection of visitor data, we will request OMB authorize a two-part request: survey questions from which our regional offices may choose and a survey form template. This will allow for a custom designed survey instrument to fit a specific activity or recreation site. The custom designed survey would be created by extracting questions from the approved list of survey questions that are applicable to the recreation area and issue being evaluated. Only questions included in the pre-approved list of survey questions will be used.

Revisions to this collection will be made to adjust respondent demographic questions to conform with Executive Order 14168, “Defending Women From Gender Ideology Extremism and Restoring Biological Truth to the Federal Government” (January 20, 2025) and OMB's “2024 Statistical Policy Directive No. 15: Federal Race and Ethnicity Data Standards.”

Title of Collection: Recreation Survey Questions.

OMB Control Number: 1006-0028.

Form Number: 7-2675, Recreation Survey Questions.

Type of Review: Revision of a currently approved collection.

Respondents/Affected Public: Respondents to the surveys will be members of the public engaged in recreational activities on Reclamation lands and waterbodies. Visitors will primarily consist of local residents, people from large metropolitan areas in the vicinity of the lake/reservoir, and people from out of state.

Total Estimated Number of Annual Respondents: 696.

Total Estimated Number of Annual Responses: 696.

Estimated Completion Time per Response: 15 minutes per survey (an average of 20 questions will be used on each survey; each question will take approximately 45 seconds to complete on average).

Total Estimated Number of Annual Burden Hours: 140.

Respondent's Obligation: Voluntary.

Frequency of Collection: Twice annually.

Total Estimated Annual Nonhour Burden cost: None.

Reclamation estimates that there will be a total of 140 out of 696 contacts that choose not to respond to the survey. These non-respondents account for 1 burden hour per year.

An agency may not conduct or sponsor and a person is not required to respond to a collection of information unless it displays a currently valid OMB control number.

The authority for this action is the Paperwork Reduction Act of 1995 (44 U.S.C. 3501 et seq.).

Stephanie McPhee,
Acting Information Collection Clearance Officer, Bureau of Reclamation.

[FR Doc. 2025-23650 Filed 12-22-25; 8:45 am]

BILLING CODE 4332-90-P